DEPARTMENT OF TRANSPORTATION

Coast Guard

33 CFR Part 117

[CCGD08-00-004]

RIN 2115-AE47

Drawbridge Operation Regulations for the Arkansas and White Rivers

AGENCY: Coast Guard, DOT.

ACTION: Notice of proposed rulemaking.

SUMMARY: The Coast Guard proposes to revise the regulation governing the operation of the Cotton Belt Railroad (Rob Roy) Bridge across the Arkansas River at mile 67.4, in the State of Arkansas. For more than 20 years the Rob Roy Bridge has been operated using radiotelephones as the primary communications device between mariners and the bridge operator even though current regulations require horns and flashing lights. The change in this rule will merely make the regulation require the use of radiotelephone for primary communications in the operation of the bridge.

DATES: Comments must be received on or before June 6, 2000.

ADDRESSES: Comments may be mailed to Commander (obr), Eighth Coast Guard District, 1222 Spruce Street, St. Louis, MO 63103, or may be delivered to room 2.107F at the same address between 8:00 a.m. and 4:00 p.m. Monday through Friday, except on Federal Holidays.

FOR FURTHER INFORMATION CONTACT: Roger K. Wiebusch, Bridge Administrator, Commander (obr), Eighth Coast Guard District, 314-539-3900, Ext. 378.

SUPPLEMENTARY INFORMATION:

Request for Comments

The Coast Guard encourages interested persons to participate in this rulemaking by submitting written data, views, or arguments. Persons submitting comments should include their names and addresses, identify this rulemaking (CGD08-00-004) and the specific section of this proposal to which the comment applies, and give the reason for each comment. Please submit all comments and attachments in an unbound format, no larger than 8½ by 11 inches, suitable for copying and electronic filing. Persons wanting acknowledgment of receipt of comments should enclose stamped, self-addressed postcards or envelopes.

The Coast Guard plans no public hearing. Individuals may request a public hearing by writing to the Commander (obr), at the address under ADDRESSES. The request should include the reasons why a hearing would be beneficial. If it determines that the opportunity for oral presentations will aid this rulemaking, the Coast Guard will hold a public hearing at a time and place announced by a later notice in the Federal Register.

Background and Purpose

The Arkansas River is a part of the McClellan-Kerr Arkansas River Navigation System. The System rises in the vicinity of Catoosa, Oklahoma, and embraces improved natural waterways and a canal to empty into the Mississippi River in southeast Arkansas. The Arkansas River drawbridge operation regulations contained in 33 CFR 117.123(a), states that the Cotton Belt Railroad (Rob Roy) Bridge, Mile 67.4, requires the use of ship's horns and flashing lights on the bridge to communicate between mariners requesting openings and railroad dispatchers remotely operating the bridge. Although not stated in 33 CFR 117.123(a), records indicate that the method of communication outlined in 33 CFR 117.123(b)(1) was to be used by mariners and the remote bridge operator as a back-up means of communications. The Coast Guard, however, has determined that the primary method of communications outlined in 33 CFR 117.123(a) has not been used during the past 20 years. It is doubtful that the system of horns and flashing lights was ever used. Instead, mariners and remote bridge operators have used the method outlined in 33 CFR 117.123(b)(1) as the prime method of communications for opening the Rob Roy Bridge.

Discussion of Proposed Rules

Drawbridge operation regulations should be realistic in meeting the needs of both navigation and land traffic, and be tempered with common sense and good judgment. The current regulations do not reflect the actual method of operation for the Rob Roy Bridge. A survey of towboat pilots and railroad personnel revealed that the use of radiotelephones as the primary means of communications is preferred. The people involved never favored the use of ship's horns and flashing bridge lights. This proposal will provide regulations for operation of the Rob Roy Bridge that are consistent with the way the bridge is actually operated.

Regulatory Evaluation

This proposal is not a significant regulatory action under section 3(f) of Executive Order 12866 and does not require an assessment of potential costs and benefits under section 6(a)(3) of that order. It has not been reviewed by the Office of Management and Budget under that order. It is not significant under the regulatory policies and procedures of the Department of Transportation (DOT) (44 FR 11040; February 26, 1979). The Coast Guard expects the economic impact of this proposal to be so minimal that a full Regulatory Evaluation under paragraph 10e of the regulatory policies and procedures of DOT is unnecessary. For more than 20 years the Rob Roy Bridge has been operated using radiotelephones as the primary communications device between mariners and the bridge operator even though current regulations require horns and flashing lights. The change in this rule will merely make the published operation regulation conform to the actual method of operation.

Small Entities

Under the Regulatory Flexibility Act (5 U.S.C. 601 et seq.), the Coast Guard must consider whether this proposal, if adopted, will have a significant economic impact on a substantial number of small entities. “Small entities” may include (1) small businesses and not-for-profit organizations that are independently owned and operated and are not dominant in their fields and (2) governmental jurisdictions with populations of less than 50,000. Since the proposed regulation only changes the method used to communicate between mariners requesting bridge openings and railroad dispatchers remotely operating the bridge and does not affect the existing operating schedule of the bridge, there will be little, if any, impact on small entities. Because it expects the impact of this proposal to be minimal, the Coast Guard certified under 5 U.S.C. 605 (b) that this proposal will not have a significant economic impact on a substantial number of small entities.

Collection of Information

This proposal contains no collection-of-information requirements under the Paperwork Reduction Act (44 U.S.C. 3501 et seq.).

Federalism

The Coast Guard has analyzed this proposal under the principles and criteria contained in Executive Order 12612 and has determined that this proposal does not have sufficient federalism implications to warrant the preparation of a Federalism Assessment.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This rule would not impose an unfunded mandate.

Taking of Private Property

This rule would not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Environment

The Coast Guard considered the environmental impact of this proposal and concluded that under paragraph 2.B.2.a. of Commandant Instructions M16475.1C, this proposal is categorically excluded from further environmental documentation. A “Categorical Exclusion Determination” is available in the docket for inspection or copying where indicated under ADDRESSES.

List of Subjects in 33 CFR Part 117

Bridges.

Regulations

For the reasons set out in the preamble, the Coast Guard proposes to amend Part 117 of Title 33, Code of Federal Regulations, as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. Section 117.123(a) is revised to read as follows:

§ 117.123 Arkansas Waterway—Automated Railroad Bridges.

(a) Across the Arkansas River, the draw of the Cotton Belt Railroad (Rob Roy) Bridge, Mile 67.4, is maintained in the closed position and is remotely operated. Any vessel requiring an opening of the draw shall establish contact by radiotelephone with the remote drawbridge operator on VHF-FM Channel 16 in Pine Bluff, Arkansas. The remote drawbridge operator will advise the vessel whether the bridge can be immediately opened and maintain constant contact with the vessel until the span has opened and the vessel passage has been completed. If the drawbridge cannot be opened immediately, the remote drawbridge operator shall notify the calling vessel and provide an estimated time for opening.

* * * * *

Dated: March 29, 2000.
Paul J. Pluta,
Rear Admiral, U. S. Coast Guard Commander, Eighth Coast Guard District.

[FR Doc. 00-8660 Filed 4-6-00; 8:45 am]

BILLING CODE 4910-15-P